INTERNATIONAL TRADE COMMISSION

[USITC SE-01-014]

Sunshine Act Meeting

AGENCY HOLDING THE MEETING: United States International Trade Commission.

TIME AND DATE: April 19, 2001 at 11:00 a.m.

PLACE: Room 101, 500 E Street SW., Washington, DC 20436, Telephone: (202) 205-2000.

STATUS: Open to the public

MATTERS TO BE CONSIDERED: 1. Agenda for future meeting: none

2. Minutes

3. Ratification List

4. Inv. No. 731-TA-923 (Preliminary) (Oleoresin Paprika from India)—briefing and vote. (The Commission is currently scheduled to transmit its determination to the Secretary of Commerce on April 20, 2001; Commissioners' opinions are currently scheduled to be transmitted to the Secretary of Commerce on April 27, 2001.)

5. Outstanding action jackets: none

In accordance with Commission policy, subject matter listed above, not disposed of at the scheduled meeting, may be carried over to the agenda of the following meeting.

Issued: April 10, 2001.
By order of the Commission.
Donna R. Koehnke,
Secretary.

[FR Doc. 01-9260 Filed 4-10-01; 3:28 pm]

BILLING CODE 7020-02-P